DEPARTMENT OF HOMELAND SECURITY

Coast Guard

33 CFR Part 165

[Docket No. USCG-2009-1134]

RIN 1625-AA87

Security Zone; Vessels Carrying Hazardous Cargo, Sector Columbia River Captain of the Port Zone

AGENCY: Coast Guard, DHS.

ACTION: Final rule.

SUMMARY: The Coast Guard is establishing a 500 yard security zone around vessels carrying hazardous cargo, as determined by the Captain of the Port (COTP) Columbia River, when such vessels are located in the Sector Columbia River COTP Zone as defined in 33 CFR 3.65-15 and the COTP Columbia River determines that a security zone is necessary and enforcement of that security zone is practicable. The security zones will help ensure the security of the vessels themselves as well as the maritime public due to the hazardous nature of the cargo on board.

DATES: This rule is effective June 16, 2011.

ADDRESSES: Comments and material received from the public, as well as documents mentioned in this preamble as being available in the docket, are part of docket USCG-2009-1134 and are available online by going to http://www.regulations.gov, inserting USCG-2009-1134 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail MST1 Jaime Sayers, Waterways Management Division, Marine Safety Unit Portland, Coast Guard; telephone 503-240-9327, e-mail Jaime.a.Sayers@uscg.mil. If you have questions on viewing the docket, call Renee V. Wright, Program Manager, Docket Operations, telephone 202-366-9826.

SUPPLEMENTARY INFORMATION:

Regulatory Information

On December 8, 2010, we published a notice of proposed rulemaking (NPRM) entitled Security Zone; Vessel Carrying Hazardous Cargo, Sector Columbia River Captain of the Port Zone in the Federal Register (75 FR 76328). No comments were received on the proposed rule and there was no request to hold a public meeting.

Basis and Purpose

Vessels carrying hazardous cargo occasionally operate in the Sector Columbia River COTP Zone. Examples of hazardous cargoes include, but are not limited to, liquefied petroleum gas, ammonium nitrate and associated mixtures, anhydrous ammonia, and chlorine. The security zones that will be created by this rule will help ensure the security of the vessels themselves as well as the maritime public in general by prohibiting all persons or vessels from coming within 500 yards of such vessels while located in Sector Columbia River COTP Zone. In the past, the COTP Columbia River has issued temporary security zones to cover certain vessels carrying hazardous cargo.

Background

Vessels carrying hazardous cargo enter the Captain of the Port Columbia River area of responsibility approximately every three to four months. These cargos pose a potential threat to the environment and to nearby communities if an incident were to occur while it is transiting the Columbia and Willamette Rivers. This potential threat is reduced by the vessel being escorted through highly populated areas of the river and by ensuring a security zone is around the vessel during the entire transit to reduce the numbers of vessels coming in close proximity to the vessel. This process takes approximately two weeks to complete but the Coast Guard is notified 96-hours in advance of the arrival of this vessel. The vessel will only be in port long enough to discharge the product which is approximately 18 to 26 hours. No other alternatives were considered for these security zones.

Discussion of Comments and Changes

There were no comments made on the notice of proposed rulemaking and therefore no changes have been made to the rule.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order. The Coast Guard has made this determination based on the fact that the security zones created by this rule will only be in effect during the limited periods of time when vessels carrying hazardous cargo, as determined by the COTP Columbia River, are located in the Sector Columbia River COTP Zone. In addition, maritime traffic will be able to transit around the security zones or, if necessary, may be allowed to transit through the security zones with permission from the COTP Columbia River.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This proposed rule may affect the following entities, some of which may be small entities: The owners or operators of vessels intending to operate in an area covered by a security zone created by this rule. The security zones created by this rule will not have a significant economic impact on a substantial number of small entities, however, because they will only be in effect during the limited periods of time when vessels carrying hazardous cargo, as determined by the COTP Columbia River, are located in the Sector Columbia River COTP Zone. In addition, maritime traffic will be able to transit around the security zones or, if necessary, may be allowed to transit through the security zones with permission from the COTP Columbia River.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism. There were no comments submitted on this notice.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble. There were no comments submitted on this notice.

Taking of Private Property

This rule will not cause a taking of private property or otherwise have taking implications under Executive Order 12630, Governmental Actions and Interference with Constitutionally Protected Property Rights. There were no comments submitted on this rule.

Civil Justice Reform

This rule meets applicable standards in sections 3(a) and 3(b)(2) of Executive Order 12988, Civil Justice Reform, to minimize litigation, eliminate ambiguity, and reduce burden. There were no comments submitted on this rule.

Protection of Children

We have analyzed this rule under Executive Order 13045, Protection of Children from Environmental Health Risks and Safety Risks. This rule is not an economically significant rule and does not create an environmental risk to health or risk to safety that may disproportionately affect children. There were no comments submitted on this rule.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes. There were no comments submitted on this plan.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211. There were no comments submitted on this rule.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards. There were no comments submitted on this rule.

Environment

We have analyzed this rule under Department of Homeland Security Management Directive 023-01 and Commandant Instruction M16475.lD, which guide the Coast Guard in complying with the National Environmental Policy Act of 1969 (NEPA) (42 U.S.C. 4321-4370f), and have concluded this action is one of a category of actions that do not individually or cumulatively have a significant effect on the human environment. This rule is categorically excluded, under figure 2-1, paragraph (34)(g), of the Instruction. This rule involves the establishment of a security zone.

An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Add § 165.1335 to read as follows:

§ 165.1335 Security Zone; Vessels Carrying Hazardous Cargo, Sector Columbia River Captain of the Port Zone.

(a) Location. The following area is a security zone: All waters within 500 yards, in all directions, of any vessel carrying hazardous cargo, as determined by the Captain of the Port (COTP) Columbia River, while such a vessel is located in the Sector Columbia River COTP Zone as defined in 33 CFR 3.65-15 and the COTP Columbia River determines that a security zone is necessary and enforcement of the security zone is practicable.

(b) Regulations. (1) In accordance with the general regulations in 33 CFR part 165, Subpart D, no person or vessel may enter or remain in a security zone created by this section without the permission of the COTP Columbia River or his/her designated representative. Designated representatives are Coast Guard personnel authorized by the COTP Columbia River to grant persons or vessels permission to enter or remain in a security zone created by this section. Subpart D of 33 CFR part 165 contains additional provisions applicable to a security zone created by this section.

(2) To request permission to enter a security zone created by this section, contact Coast Guard Sector Columbia River at telephone number 503-861-6212 or via VHF channel 16 (156.8 MHz) or VHF channel 22 (157.1 MHz).

(c) Notification. When a security zone is created by this section, one or more Coast Guard vessels will be present to enforce the security zone and the COTP Columbia River will issue a local broadcast notice to mariners.

Dated: May 2, 2011.
D.E. Kaup,
Captain, U.S. Coast Guard, Captain of the Port, Sector Columbia River.

[FR Doc. 2011-11799 Filed 5-16-11; 8:45 am]

BILLING CODE 9110-04-P